DEPARTMENT OF THE TREASURY

Agency Information Collection Activities; Proposed Collection; Comment Request; Bureau of Engraving and Printing Features of Interest Survey for Banknote Equipment Manufacturers

AGENCY: Bureau of Engraving and Printing, Department of the Treasury.

ACTION: Notice.

SUMMARY: The Department of the Treasury, as part of its continuing effort to reduce paperwork and respondent burden, invites the general public and other federal agencies to comment on the proposed information collections listed below, in accordance with the Paperwork Reduction Act of 1995.

DATES: Written comments must be received on or before August 26, 2022.

ADDRESSES: Send comments regarding the burden estimate, or any other aspect of the information collection, including suggestions for reducing the burden, to Crystal Johnson at Bureau of Engraving and Printing, BEP and CRM Customer Support, 14th and C Streets SW, Washington, DC 20228 or by emailing BEM_and_CRM_Customer_Support@bep.gov.

FOR FURTHER INFORMATION CONTACT: Copies of the submissions may be obtained from Crystal Johnson by emailing BEM_and_CRM_Customer_Support@bep.gov, calling (202) 664-3466, or viewing the entire information collection request at www.reginfo.gov.

SUPPLEMENTARY INFORMATION:

Title: Bureau of Engraving and Printing Features of Interest Survey for Banknote Equipment Manufacturers.

OMB Control Number: 1520-NEW.

Type of Review: Request for a new OMB Control Number.

Description: The Bureau of Engraving and Printing Feature of Interest Survey for Banknote Equipment Manufacturers (BEMs) is voluntarily completed by BEM companies to inform BEP's efforts to develop features to be included in future Federal Reserve Note (FRN) redesigns. The survey gives BEM companies the opportunity to comment whether proposed features and/or FRN redesigns (a.k.a. Features of Interest) can be detected, validated, transported, and stored by their products. Banknote Equipment Manufacturers (BEMs) are companies that produce any type of equipment that handles banknotes for commercial purposes involving accept/reject decisions for FRNs.

Form: None.

Affected Public: Businesses or other for profits.

Estimated Number of Respondents: 50.

Frequency of Response: 3 per year.

Estimated Total Number of Annual Responses: 150.

Estimated Time per Response: 1 hour.

Estimated Total Annual Burden Hours: 150.

Request for Comments: Comments submitted in response to this notice will be summarized and included in the request for Office of Management and Budget approval. All comments will become a matter of public record. Comments are invited on: (a) whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of technology; and (e) estimates of capital or start-up costs and costs of operation, maintenance, and purchase of services required to provide information.

Authority: 44 U.S.C. 3501 et seq.

Katherine A. Allen,
BEP PRA Clearance Officer.

[FR Doc. 2022-13594 Filed 6-24-22; 8:45 am]

BILLING CODE 4840-01-P